DEPARTMENT OF DEFENSE

Office of the Secretary

[Transmittal Nos. 12-58]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

SUPPLEMENTARY INFORMATION: The following is a copy of a letter to the Speaker of the House of Representatives, Transmittal 12-58 with attached transmittal, policy justification and sensitivity of technology.

Dated: November 13, 2012.
Aaron Siegel,
Alternate OSD Federal Register Liaison Officer, Department of Defense.

Transmittal No. 12-58

Notice of Proposed Issuance of Letter of Offer Pursuant to Section 36(b)(1) of the Arms Export Control Act, as amended

(i) Prospective Purchaser: Qatar

(ii) Total Estimated Value:

Major Defense Equipment * | $7.2 billion
Other | $2.7 billion
TOTAL | $9.9 billion

(iii) Description and Quantity or Quantities of Articles or Services under Consideration for Purchase: 11 PATRIOT Configuration-3 Modernized Fire Units, 11 AN/MPQ-65 Radar Sets, 11 AN/MSQ-132 Engagement Control Systems, 30 Antenna Mast Groups, 44 M902 Launching Stations, 246 PATRIOT MIM-104E Guidance Enhanced Missile-TBM (GEM-T) with canisters, 2 PATRIOT MIM-104E GEM-T Test Missiles, 768 PATRIOT Advanced Capability 3 (PAC-3) Missiles with canisters, 10 PAC-3 Test Missiles with canisters, 11 Electrical Power Plants (EPPII), 8 Multifunctional Information Distribution Systems/Low Volume Terminals (MIDS/LVTs), communications equipment, tools and test equipment, support equipment, publications and technical documentation, personnel training and training equipment, spare and repair parts, facility design, U.S. Government and contractor technical, engineering, and logistics support services, and other related elements of logistics and program support.

* as defined in Section 47(6) of the Arms Export Control Act.

(iv) Military Department: Army (UAP)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 6 November 2012

Policy Justification

Qatar—PATRIOT Missile System and Related Support and Equipment

The Government of Qatar has requested a possible sale of 11 PATRIOT Configuration-3 Modernized Fire Units, 11 AN/MPQ-65 Radar Sets, 11 AN/MSQ-132 Engagement Control Systems, 30 Antenna Mast Groups, 44 M902 Launching Stations, 246 PATRIOT MIM-104E Guidance Enhanced Missile-TBM (GEM-T) with canisters, 2 PATRIOT MIM-104E GEM-T Test Missiles, 768 PATRIOT Advanced Capability 3 (PAC-3) Missiles with canisters, 10 PAC-3 Test Missiles with canisters, 11 Electrical Power Plants (EPPII), 8 Multifunctional Information Distribution Systems/Low Volume Terminals (MIDS/LVTs), communications equipment, tools and test equipment, support equipment, publications and technical documentation, personnel training and training equipment, spare and repair parts, facility design, U.S. Government and contractor technical, engineering, and logistics support services, and other related elements of logistics and program support. The estimated cost is $9.9 billion.

This proposed sale will contribute to the foreign policy and national security of the United States by improving the security of an important ally which has been, and continues to be, a force for political stability and economic progress in the Middle East. This sale is consistent with U.S. initiatives to provide key allies in the region with modern systems that will enhance interoperability with U.S. forces and increase security.

Qatar will use the Patriot Missile System to improve its missile defense capability, strengthen its homeland defense, and deter regional threats. The proposed sale will enhance Qatar's interoperability with the U.S. and its allies, making it a more valuable partner in an increasingly important area of the world. Qatar should have no difficulty absorbing this system into its armed forces.

The proposed sale of these missiles and equipment will not alter the basic military balance in the region.

The prime contractors will be Raytheon Corporation in Andover, Maryland, and Lockheed-Martin in Dallas, Texas. There are no known offset agreements proposed in connection with this potential sale.

Implementation of this proposed sale will require approximately 30 U.S. Government and 40 contractor representatives to travel to Qatar for an extended period for equipment de-processing/fielding, system checkout, training and technical and logistics support.

There will be no adverse impact on U.S. defense readiness as a result of this proposed sale.

Transmittal No. 12-58

Notice of Proposed Issuance of Letter of Offer Pursuant to Section 36(b)(1) of the Arms Export Control Act

Annex

Item No. vi

(vi) Sensitivity of Technology:

1. The PATRIOT Advanced Capability-3/Configuration-3 Ground Support Equipment (PAC-3/C-3) Air Defense System contains classified Confidential hardware components, Secret tactical software, and critical/sensitive technology. The PAC-3 Missile Four-Pack and Guidance Enhanced Missile (GEM-T) hardware is classified Confidential and the associated launcher hardware is Unclassified. The items requested represent significant technological advances for Qatar. The PAC-3/C-3Air Defense System continues to hold a significant technology lead over other surface-to-air missile systems in the world.

2. The PAC-3/C-3 sensitive/critical technology is primarily in the area of design and production know-how and primarily inherent in the design, development and/or manufacturing data related to the following components:

a. Radar Enhancement Phase III (REP-3) Exciter Assemblies

b. Radar Digital Processor

c. Modern Adjunct Processor

d. REP-3 Traveling Wave Tube

e. Classification, Discrimination, and Identification-3 (CDI-3) Digital Signal

Processor

f. CDI-3 Analog/Digital Converters

g. Hardware-in-the-Loop and Digital Simulations

h. Surface Acoustic Wave (SAW) Oscillators

i. PAC-3 Missile Guidance Processor Unit

j. PAC-3 Seeker

k. PAC-3 Missile software

l. GEM-T Fuze

m. GEM-T SAW Oscillator

n. Selected areas of the PATRIOT Ground Equipment software

3. Information on vulnerability to electronic countermeasures and counter-counter measures, system performance capabilities and effectiveness, survivability and vulnerability data, PAC-3 Missile seeker capabilities, non-cooperative target recognition, low observable technologies, select software/software documentation and test data are classified up to and including Secret.

4. If a technologically advanced adversary were to obtain knowledge of the specific hardware and software elements, the information could be used to develop countermeasures which might reduce weapons systems effectiveness or be used in the development of a system with similar or advanced capabilities.

[FR Doc. 2012-27945 Filed 11-15-12; 8:45 am]

BILLING CODE 5001-06-P